DEPARTMENT OF JUSTICE

Notice of Lodging of Proposed Stipulation Relating to Proofs of Claim Under the Comprehensive Environmental Response, Compensation and Liability Act (CERCLA)

Notice is hereby given that on September 12, 2007, a proposed Stipulation Relating to Proofs of Claim for El Paso County Metals Survey Site and Dona Ana Metal Site was filed with the United States Bankruptcy Court for the Southern District of Texas in In re. Asarco LLC., No. 05-21207 (Bankr. S.D. Tex.). The proposed Stipulation entered into among the United States on behalf of the Environmental Protection Agency, State of New Mexico, City of El Paso, and Asarco LLC (“Asarco”) provides, inter alia, that the United States estimates that the cost to Asarco for completion of residential soils cleanups after May 1, 2007 at the El Paso Site in El Paso, Texas, will not exceed $4,770,000, and that Asarco's estimated liability to the United States with respect to all other response actions or costs that may be incurred at the El Paso Site after May 1, 2007 will not exceed $50,000 per year. These estimates are premised on the assumption that Asarco will perform the remaining work required for soil remediation, and the Stipulation is also without prejudice to the positions of the United States, Asarco, and the City of El Paso regarding the injunctive order for work with respect to the El Paso Site.

The Department of Justice will receive comments relating to the proposed Stipulation for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to In re. Asarco LLC, DJ Ref. No. 90-11-3-08633.

The proposed Stipulation may be examined at the Office of the United States Attorney for the Southern District of Texas, 800 North Shoreline Blvd, #500, Corpus Christi, TX 78476-2001, and at the Region 6 Office of the United States Environmental Protection Agency, 1445 Ross Avenue, Suite 1200, Dallas, Texas 75202. During the public comment period, the proposed Stipulation may also be examined on the following Department of Justice Web site, http://www.usdoj.gov/enrd/Consent_Decrees.html. A copy of the proposed Stipulation may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $1.25 (25 cents per page reproduction cost) payable to the U.S. Treasury.

Robert E. Maher, Jr.,
Assistant Section Chief, Environmental Enforcement Section, Environment and Natural Resources Division.

[FR Doc. 07-4742 Filed 9-26-07; 8:45 am]

BILLING CODE 4410-15-M